FEDERAL DEPOSIT INSURANCE CORPORATION

Agency Information Collection Activities: Proposed New Information Collection; Post Examination Surveys; Comment Request (3064-NEW)

AGENCY: Federal Deposit Insurance Corporation (FDIC).

ACTION: Notice and request for comment.

SUMMARY: The FDIC, as part of its obligations under the Paperwork Reduction Act of 1995 (PRA), invites the general public and other Federal agencies to take this opportunity to comment on the survey collection instrument for post examination surveys. FDIC is seeking a new OMB Control Number for this information collection. There are two versions of survey that will be transmitted to each financial institution after FDIC's completion of a Safety and Soundness or a Consumer Compliance examination to obtain feedback from these financial institutions regarding the examination process.

DATES: Comments must be submitted on or before March 21, 2022.

ADDRESSES: Interested parties are invited to submit written comments to the FDIC by any of the following methods:

• https://www.fdic.gov/resources/regulations/federal-register-publications/index.html.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street Building (located on F Street), on business days between 7:00 a.m. and 5:00 p.m.

All comments should refer to “Post-Examination Surveys”. A copy of the comments may also be submitted to the OMB desk officer for the FDIC: Office of Information and Regulatory Affairs, Office of Management and Budget, New Executive Office Building, Washington, DC 20503.

FOR FURTHER INFORMATION CONTACT: Manny Cabeza, Regulatory Counsel, (202) 898-3767, mcabeza@fdic.gov, MB-3128, Federal Deposit Insurance Corporation, 550 17th Street NW, Washington, DC 20429.

SUPPLEMENTARY INFORMATION: The FDIC is requesting OMB approval for the following collection of information:

Title: Post-Examination Surveys.

OMB Number: 3064-NEW.

Frequency of Response: On occasion.

Affected Public: FDIC-supervised insured depository institutions.

Forms: 6600/58 (Post Examination Survey Safety and Soundness Exams); 6600/59 (Post Examination Survey Compliance and CRA Exams).

Burden Estimate:

Summary of Estimated Annual Burden—Post-Examination Surveys
Information collection (IC) description | Type of burden | Estimated number of respondents | Estimated frequency of response | Estimated time per response (minutes) | Total estimated annual burden (hours)
Safety and Soundness Post-Examination Survey | Reporting | 605 | On Occasion | 45 | 454
Consumer Compliance Post-Examination Survey | Reporting | 550 | On Occasion | 45 | 413
Total Estimated Annual Burden |  |  |  |  | 867

General Description of Collection: The purpose of the surveys is to gauge bankers' views on the effectiveness and quality of FDIC Safety and Soundness and Consumer Compliance examinations, as well as to identify ways to improve the examination process. Respondents will be asked to voluntarily rate the efficiency of the pre-examination process; examiners' professionalism and understanding of the laws and regulations; the examination process; and examination report quality. Respondents will also be allowed to provide feedback on any areas for improvement and will be given an option to have someone from the FDIC Office of the Ombudsman contact the institution confidentially about its recent examination or any other matters.

Interested members of the public may obtain a copy of the proposed survey questionnaires on the following web pages:

• https://www.fdic.gov/resources/regulations/federal-register-publications/2022/fdic-6600-58.pdf.

• https://www.fdic.gov/resources/regulations/federal-register-publications/2022/fdic-6600-59.pdf.

Request for Comment

Comments are invited on: (a) Whether the collection of information is necessary for the proper performance of the FDIC's functions, including whether the information has practical utility; (b) the accuracy of the estimates of the burden of the information collections, including the validity of the methodology and assumptions used; (c) ways to enhance the quality, utility, and clarity of the information to be collected; and (d) ways to minimize the burden of the collection of information on respondents, including through the use of automated collection techniques or other forms of information technology. All comments will become a matter of public record.

Dated at Washington, DC, this 13th day of January 2022.
Federal Deposit Insurance Corporation.
James P. Sheesley,
Assistant Executive Secretary.

[FR Doc. 2022-00983 Filed 1-19-22; 8:45 am]

BILLING CODE 6714-01-P